DEPARTMENT OF DEFENSE

Office of the Secretary

[Transmittal No. 15-25]

36(b)(1) Arms Sales Notification

AGENCY: Defense Security Cooperation Agency, DoD.

ACTION: Notice.

SUMMARY: The Department of Defense is publishing the unclassified text of a section 36(b)(1) arms sales notification. This is published to fulfill the requirements of section 155 of Public Law 104-164 dated July 21, 1996.

FOR FURTHER INFORMATION CONTACT: Sarah A. Ragan or Heather N. Harwell, DSCA/LMO, (703) 604-1546/(703) 607-5339. The following is a copy of a letter to the Speaker of the House of Representatives, Transmittal 15-25 with attached Policy Justification.

Dated: July 9, 2015.
Aaron Siegel,
Alternate OSD Federal Register Liaison Officer, Department of Defense.

BILLING CODE 5001-06-C

BILLING CODE 5001-06-P

Transmittal No. 15-25

Notice of Proposed Issuance of Letter of Offer Pursuant to Section 36(b)(1) of the Arms Export Control Act, as amended

(i) Prospective Purchaser: Egypt

(ii) Total Estimated Value:

Major Defense Equipment * | $ 0 million
Other | $100 million
TOTAL | $100 million

(iii) Description and Quantity of Articles or Services under Consideration for Purchase: procurement and construction of one (1) commercial off-the-shelf border security mobile surveillance sensor security system that will include the following sub-systems: mobile surveillance sensor towers, mobile command and control (C2) systems, a regional C2 system, voice/data communications equipment, spare parts, support equipment, personnel training, training equipment, publications and technical documentation, U.S. Government and contractor technical and logistics support services, and other related elements of logistics and program support.

(iv) Military Department: Air Force (DAB)

(v) Prior Related Cases, if any: None

(vi) Sales Commission, Fee, etc., Paid, Offered, or Agreed to be Paid: None

(vii) Sensitivity of Technology Contained in the Defense Article or Defense Services Proposed to be Sold: None.

(viii) Date Report Delivered to Congress: 07 JULY 2015

* As defined in Section 47(6) of the Arms Export Control Act.

POLICY JUSTIFICATION

Egypt—Border Security Mobile Surveillance Sensor Security System

The Government of Egypt has requested a possible sale for procurement and construction of one (1) commercial off-the-shelf border security mobile surveillance sensor security system that will include the following sub-systems: mobile surveillance sensor towers, mobile command and control (C2) systems, a regional C2 system, voice/data communications equipment, spare parts, support equipment, personnel training, training equipment, publications and technical documentation, U.S. Government and contractor technical and logistics support services, and other related elements of logistics and program support. The estimated cost is $100 million.

This proposed sale will contribute to the foreign policy and national security of the United States by helping to improve the security of a friendly country that has been and continues to be an important force for political stability and economic progress in the Middle East.

This mobile surveillance sensor security system will provide Egypt with advanced capabilities intended to bolster its border surveillance capabilities along its border with Libya and elsewhere. This procurement is intended for Egyptian Border Guard Forces, which currently lack any remote detection capability along unpatrolled areas of Egypt's borders. This system would provide an early warning capability to allow for faster response times to mitigate threats to the border guards and the civilian population. Egypt should have no difficulty absorbing these systems into its armed forces.

The proposed sale of this equipment and support will not alter the basic military balance in the region.

The principal contractor is undetermined at this time and will be determined during negotiations. There are no known offset arrangements proposed in connection with this potential sale.

Implementation of this proposed sale will not require the assignment of any additional U.S. Government or contractor representatives to Egypt. However, the proposed sale will require periodic travel to Egypt by multiple U.S. Government and contractor representatives' for program and technical review meetings, testing, and training for a period of up to 5 years.

There will be no adverse impact on U.S. defense readiness as a result of this proposed sale.

[FR Doc. 2015-17204 Filed 7-13-15; 8:45 am]

BILLING CODE 5001-06-P